WOMEN'S PROGRESS COMMEMORATION COMMISSION

Meeting

Agency: Women's Progress Commemoration Commission.

Action: Meeting Notice.

Time and Date: Monday, June 11, 2001, 10 a.m.-4 p.m.

Place: The meeting site is the Radisson Barcelo Hotel Washington, 2121 P Street, NW., Washington, DC 20037.

Status: The meeting is open to the public.

Purpose: To hear testimony and determine the final report regarding an appropriate process for designating women's history sites and for raising public awareness about the sites across the country.

Contact Person: For further information, contact Beth Newburger, Executive Director of the Women's Progress Commemoration Commission. Phone number (202) 418-3437.

Beth W. Newburger,
Executive Director.

[FR Doc. 01-13292 Filed 5-24-01; 8:45 am]

BILLING CODE 6820-PF-U